DEPARTMENT OF HEALTH AND HUMAN SERVICES

National Institutes of Health

National Institute of Environmental Health Sciences; Amended Notice of Meeting

Notice is hereby given of a change in the meeting of the National Institute of Environmental Health Sciences Special Emphasis Panel, August 6, 2001, 1:30 PM to August 6, 2001, 2:30 PM, NIEHS, 79 T.W. Alexander Drive, Building 4401, Conference Room 3446, Research Triangle Park, NC, 27709 which was published in the Federal Register on July 11, 2001, FR 66: 36293.

Dated: July 24, 2001.
LaVerne Y. Stringfield,
Director, Office of Federal Advisory Committee Policy.

[FR Doc. 01-19078 Filed 7-31-01; 8:45 am]

BILLING CODE 4140-01-M